DEPARTMENT OF TRANSPORTATION

Federal Railroad Administration

[Docket No. FRA-2018-0008-N-5]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Requests (ICRs) abstracted below. Before submitting these ICRs to the Office of Management and Budget (OMB) for approval, FRA is soliciting public comment on specific aspects of the activities identified below.

DATES: Interested persons are invited to submit comments on or before October 1, 2018.

ADDRESSES: Submit written comments on the ICRs activities by mail to either: Mr. Robert Brogan, Information Collection Clearance Officer, Office of Railroad Safety, Regulatory Analysis Division, RRS-21, Federal Railroad Administration, 1200 New Jersey Avenue SE, Room W33-497, Washington, DC 20590; or Ms. Kim Toone, Information Collection Clearance Officer, Office of Information Technology, RAD-20, Federal Railroad Administration, 1200 New Jersey Avenue SE, Room W34-212, Washington, DC 20590. Commenters requesting FRA to acknowledge receipt of their respective comments must include a self-addressed stamped postcard stating, “Comments on OMB Control Number 2130-XXXX” (the relevant OMB control number for each ICR is listed below), and should also include the title of the ICR. Alternatively, comments may be faxed to (202) 493-6216 or (202) 493-6497, or emailed to Mr. Brogan at Robert.Brogan@dot.gov, or Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Information Collection Clearance Officer, Office of Railroad Safety, Regulatory Analysis Division, RRS-21, Federal Railroad Administration, 1200 New Jersey Avenue SE, Room W33-497, Washington, DC 20590 (telephone: (202) 493-6292) or Ms. Kim Toone, Information Collection Clearance Officer, Office of Information Technology, RAD-20, Federal Railroad Administration, 1200 New Jersey Avenue SE, Room W34-212, Washington, DC 20590 (telephone: (202) 493-6132).

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-12. Specifically, FRA invites interested parties to comment on the following ICRs regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Railroad Locomotive Safety Standards and Event Recorders.

OMB Control Number: 2130-0004.

Abstract: The Locomotive Safety Standards at 49 CFR part 229 require railroads to inspect, repair, and maintain locomotives, including their event recorders to ensure they are safe and free of defects. Crashworthy locomotive event recorders provide FRA with verifiable factual information about how trains are operated. These devices are used by FRA and State inspectors for part 229 enforcement. The information garnered from crashworthy event recorders is used by railroads to monitor railroad operations and by railroad employees (locomotive engineers, train crews, dispatchers) to improve train handling, and promote the safe and efficient operation of trains throughout the country, based on a surer knowledge of different control inputs.

Type of Request: Extension with Change of a Currently Approved Information Collection.

Affected Public: Businesses.

Form(s): FRA F 6180.49A.

Respondent Universe: 741 railroads.

Frequency of Submission: On occasion.

Reporting Burden:

CFR section | Respondent universe | Total annual responses | Average time per response | Total annual burden hours
229.9—Movement of Non-Complying Locomotives | 44 Railroads | 21,000 tags | 1 minute | 350
229.15—Remote control locomotive—tagging to indicate in remote control | 44 Railroads | 3,000 tags | 2 minutes | 100
—Repair record of defective OCU linked to remote control locomotive | 44 Railroads | 300 records | 5 minutes | 25
229.17—Accident Reports | 44 Railroads | 1 report | 15 minutes | .25
229.20—Electronic Recordkeeping—Automatic notice to RR each time locomotive is due for inspection or maintenance | 44 Railroads | 21,000 notifications | 1 second | 6
229.21—Daily Locomotive Inspection | 741 Railroads | 1,674,400 insp. reports + 5,215,600 insp. reports/records | 31 minutes + 33 minutes | 3,733,687
—Written Reports of MU Locomotive Inspections | 741 Railroads | 230,000 written reports | 13 minutes | 49,833
Locomotive Inspection & Repair Record—Form FRA F 6180.49A | 741 Railroads | 4,000 forms | 16 minutes | 1,067
229.23—Periodic Inspection: Secondary record of information on Form FRA F 6180.49A | 741 Railroads | 9,500 secondary records | 2 minutes | 317
—List of defects/repairs during inspection provided to RR employees + copies of lists | 741 Railroads | 4,000 lists + 4,000 copies | 2 minutes + 2 minutes | 266
—Document from railroad to employees of all tests conducted since last periodic inspection | 741 Railroads | 9,500 documents/records | 2 minutes | 317
229.31—Main reservoir tests: Periodic inspections—repairs & adjustments, & data on Form 49A | 741 Railroads | 9,500 tests/forms | 8 hours | 76,000
229.33—Out-of-Use Credit for Locomotives | 741 Railroads | 500 out-of-use notations | 5 minutes | 42
Recordkeeping Requirements
229.25—Periodic Inspection of Event Recorders: Written Copy of Instructions—Amendments | 741 Railroads | 200 amendment copies | 15 minutes | 50
—Data Verification Readout of Event Recorder | 741 Railroads | 4,025 readout records/reports | 90 minutes | 6,038
—Pre-Maintenance Test Failures of Event Recorder | 741 Railroads | 700 test failure notations | 30 minutes | 350
229.135—Removal of event recorder from service—Tags | 741 Railroads | 1,000 removal tags | 1 minute | 17
—Preserving Locomotive Event Recorder Accident Data—reports | 741 Railroads | 3,100 data reports | 15 minutes | 775
Other Requirements
229.27—Annual tests of event recorders w/self-monitoring feature displaying a failure indication—tests | 741 Railroads | 700 tests/records | 90 minutes | 1,050
229.29—Calibration of Locomotive Air Flow Meter—Tests | 741 Railroads | 88,000 tests/records | 60 seconds | 1,467
229.46—Tagging locomotive with inoperative or ineffective automatic/independent brake that can only be used in trailing position | 741 Railroads | 2,100 tags | 2 minutes | 70
229.85—Marking of all doors, cover plates, or barriers having direct access to high voltage equipment with words “Danger High Voltage” or with word “Danger” | 741 Railroads | 1,000 re-paintings/decals | 3 minutes | 50
229.123—Locomotives equipped with a pilot, snowplow, & plate with clearance above 6 inches—Marking/stenciling with words “9 inch Maximum End Plate Height, Yard or Trail Service Only” | 741 Railroads | 20 markings/stencils | 4 minutes | 1
—Notation in Remarks section of Form FRA F6180.49A of pilot, snowplow, or end plate clearance above 6 inches | 741 Railroads | 20 notations | 2 minutes | 1
Subpart E
229.303—Requests to FRA for on-track testing of products outside a facility | 741 Railroads | 20 requests | 8 hours | 160
229.307—Safety Analysis for each product subject to this Subpart—Document establishing minimum requirements | 741 Railroads | 50 safety analysis documents | 240 hours | 12,000
229.309—Safety critical changes to product subject to this Subpart—Notice to FRA | 741 Railroads | 10 notifications | 16 hours | 160
—Report by product suppliers and private owners to railroads of any safety-critical changes to product | 3 Manufacturers | 30 reports | 8 hours | 240
229.311—Notice to FRA by railroad before placing product in service | 741 Railroads | 50 notifications | 2 hours | 100
—Railroad document provided to FRA upon request demonstrating product meets Safety Analysis requirements for life cycle of product | 741 Railroads | 50 documents | 2 hours | 100
—Railroad maintenance of data base of all safety relevant hazards encountered after product is placed in service | 741 Railroads | 50 databases | 4 hours | 200
—Written report to FRA disclosing frequency of safety relevant hazards for product exceeding threshold set forth in Safety Analysis | 741 Railroads | 10 written reports | 2 hours | 20
—Final Report to FRA on results of analyses and counter measures to reduce frequency of safety related hazards | 741 Railroads | 10 written final reports | 4 hours | 40
229.313—Product testing results and records | 741 Railroads | 120,000 product testing records | 5 minutes | 10,000
229.315—Railroad maintenance of Operations and Maintenance Manual containing all documents related to installation, maintenance, repair, modification, & testing of a product subject to this Part | 741 Railroads | 45 manuals + 255 manuals | 40 hours + 5 hours | 3,075
—RR Configuration Management Control Plan | 741 Railroads | 45 plans + 255 plans | 8 hours + 2 hours | 870
—Positive ID of safety-critical components | 741 Railroads | 60,000 identified components | 5 minutes | 5,000
229.317—RR Establishment and Implementation of Training Qualification program for products subject to this Subpart | 741 Railroads | 300 programs | 40 hours | 12,000
—Employees trained under RR program | 741 Railroads | 10,000 trained employees | 60 minutes | 10,000
—Periodic refresher training of employees | 741 Railroads | 1,000 re-trained employees | 60 minutes | 1,000
—RR regular and periodic evaluation of effectiveness of its training program | 741 Railroads | 300 evaluations | 4 hours | 1,200
—RR record of individuals designated as qualified under this Section | 741 Railroads | 10,000 records | 10 minutes | 1,667
Appendix F to Part 229—Guidance for Verification and Validation of Products—3rd Party Assessments | 741 Railroads/3 Manufacturers | 1 3rd party assessment | 4,000 hours | 4,000
—Final Report of Assessment | 741 Railroads/3 Manufacturers | 1 final report | 80 hours | 80

Total Estimated Annual Responses: 7,509,648.

Total Estimated Annual Burden: 3,933,791 hours.

Title: Railroad Signal System.

OMB Control Number: 2130-0006.

Abstract: The regulations pertaining to railroad signal systems are contained in 49 CFR parts 233 (Signal System Reporting Requirements), 235 (Instructions Governing Applications for Approval of a Discontinuance or Material Modification of a Signal System), and 236 (Rules, Standards, and Instructions Governing the Installation, Inspection, Maintenance, and Repair of Signal and Train Control Systems, Devices, and Appliances). Section 233.5 provides that each railroad must report to FRA within 24 hours after learning of an accident or incident arising from signal failure (e.g., failure of a signal appliance, device, method or system to function or indicate as required by 49 CFR part 236 that results in a more favorable aspect than intended) or other condition hazardous to the movement of a train. Section 233.7 provides that each railroad must report signal failures within 15 days in accordance with the instructions printed on Form FRA F 6180.14.

Part 235 of title 49 of the Code of Federal Regulations sets forth the specific conditions under which FRA will approve the modification or discontinuance of railroad signal systems. These regulations also describe the process that should be followed by a railroad to seek such an approval. The application process prescribed under 49 CFR part 235 enables FRA to obtain the necessary information to make logical and informed decisions concerning railroad requests to modify or discontinue signal systems. Section 235.5 requires railroads to apply for FRA approval to discontinue or materially modify railroad signal systems. However, section 235.7 cites signal system changes that do not require FRA approval such as removal of an interlocking where a drawbridge has been permanently closed by the formal approval of another governmental agency. Section 235.8 allows railroads to seek relief from the requirements in 49 CFR part 236. Sections 235.10, 235.12, and 235.13 explain where the application must be submitted, what information must be included, what the format should be, and who is authorized to sign the application. FRA provides public notice concerning applications for relief and allows individuals and organizations to protest the granting of an application for relief. Section 235.20 describes the protest process, including essential information that must accompany the protest, the address for filing the protest, the time limit for filing the protest, and the requirement that a person requesting a public hearing explain why written statements cannot be used to explain his or her position.

49 CFR part 236 contains FRA's signal system requirements. Section 236.110 requires that the results of signal system tests required under §§ 236.102-109; §§ 236.376-236.387; §§ 236.576-577; and §§ 236.586-589 be recorded on pre-printed forms provided by the railroad or by electronic means, subject to FRA approval. These forms must show the name of the railroad, place and date of the test conducted, type of equipment tested, results of the test, describe any repairs, replacements, and adjustments performed on the equipment that has been tested, and the condition in which the equipment was left. This section also requires that the employee conducting the test must sign the form and that the record be retained at the office of the supervisory official. Test results made in compliance with § 236.587, must be retained for 92 days. The results of all other tests required under §§ 236.102-109; §§ 236.376-236.387; §§ 236.576-577; § 236.586; and §§ 236.588-589, including results of periodic tests, must be retained until the next record is filed, but no less than one year. Additionally, § 236.587 requires each railroad to make a departure test of the cab signal, automatic train stop, or train control devices on locomotives before the locomotives enter equipped territory. This section further requires that whoever performs the departure test must certify in writing that the test was properly performed. The certification and test results must be posted in the locomotive cab with a copy of the certification and test results retained at the office of the supervisory official. However, if it is impractical to leave a copy of the certification and test results at the location where the test is conducted, then the test results must be transmitted to the dispatcher or another designated official who must keep a written record of the test results and the name of the person performing the test. All records prepared under this section are required to be retained for 92 days. Finally, § 236.590 requires railroads to clean and inspect the pneumatic apparatus of automatic train stop, train control, or cab signal devices on locomotives as required by § 229.29(a).

Type of Request: Extension with Change of a Currently Approved Information Collection.

Affected Public: Businesses.

Form(s): FRA F 6180.14.

Respondent Universe: 1 Class I railroad.

Frequency of Submission: On occasion.

Reporting Burden:

CFR section | Respondent universe | Total annual responses | Average time per response | Total annual burden hours
233.5—Accidents resulting from signal failure—telephone report to FRA | 741 Railroads | 10 telephone calls | 30 minutes | 5
233.7—Signal Failure Reports | 741 Railroads | 20 reports | 15 minutes | 5
235.5—Filing of Applications for changes to Signal Systems | 80 Railroads | 20 applications | 10 hours | 200
235.8—Relief from requirements of Part 236 of this Title | 80 Railroads | 10 relief requests/applications | 2.5 hours | 25
235.20—Protests against application for relief from Part 236 requirements | 80 Railroads | 20 protest letters | 30 minutes | 10
236.110—Results of Tests made in compliance with sections 236.102-109; sections 236.376-387; section 236.576; section 236.577; sections 236.586-589; and sec. 236.917(a)—Records | 80 Railroads | 796,161 forms + 140,499 forms | 27 minutes. 15 minutes | 393,397
236.587—Departure Test—Record | 18 Railroads | 730,000 tests/records | 4 minutes | 48,667
236.590—Pneumatic Apparatus—Inspection, cleaning, and results of Inspection—Record | 18 Railroads | 6,697 stencilings/tags | 22.5 minutes | 2,511

Total Estimated Annual Responses: 1,673,437.

Total Estimated Annual Burden: 444,820 hours.

Title: Inspection Brake System Safety Standards for Freight and Other Non-Passenger Trains and Equipment (Power Brakes).

OMB Control Number: 2130-0008.

Abstract: Recognizing the importance of upgrading rail technologies, Congress in 1980 passed the Rock Island Railroad Transition and Employee Assistance Act (the “Rock Island Act”), which, inter alia, provides statutory relief for the implementation of new technologies. More specifically, when certain statutory requirements preclude the development or implementation of more efficient railroad transportation equipment or other transportation innovations, the applicable section of the Rock Island Act, currently codified at 49 U.S.C. 20306, provides the Secretary of Transportation with the authority to grant an exemption to those requirements based on evidence received and findings developed at a hearing. In accordance with that statute, FRA held a public hearing and invoked its discretionary authority under 49 U.S.C. 20306 to provide a limited exemption from § 20303 for freight trains and freight cars operating with electronically controlled pneumatic (ECP) brake systems. In doing so, FRA revised the regulations governing freight power brakes and equipment in October 2008 by adding a new subpart G. The revisions are designed to provide for and encourage the safe implementation and use of ECP brake system technologies. These revisions contain specific requirements relating to design, interoperability, training, inspection, testing, handling defective equipment, and periodic maintenance related to ECP brake systems. The final rule also provides flexibility to facilitate the voluntary adoption of this advanced brake system technology. The collection of information is used by FRA to monitor and enforce regulatory requirements related to power brakes on freight cars, including the requirements related to ECP brake systems. The collection of information is also used by locomotive engineers and road crews to verify that the terminal air brake test has been performed in a satisfactory manner.

Type of Request: Extension with Change of a Currently Approved Information Collection.

Affected Public: Businesses.

Form(s): N/A.

Respondent Universe: 1 Class I railroad.

Frequency of Submission: On occasion.

Reporting Burden:

CFR section | Respondent universe | Total annual responses | Average time per response | Total annual burden hours
229.27—Annual Tests | 30,000 Locomotives | 120,000 tests | 15 minutes | 30,000
232.3—Applicability—Cars Not Used in Service | 741 Railroads | 8 cards | 10 minutes | 1
232.7—Waivers | 741 Railroads | 10 petitions | 160 hours | 1,600
232.15—Movement of Defective Equipment | 1,620,000 Cars/locos | 128,400 tags | 2.5 minutes | 5,350
—Notice of Defective Car/Locomotive and Restrictions | 1,620,000 Cars/locos | 25,000 notices | 3 minutes | 1,250
232.17—Special Approval Procedure | 741 Railroads | 1 petition | 100 hours | 100
—Petitions—Pre-Revenue Svc Plans | 741 Railroads | 1 petition | 100 hours | 100
—Copies of Petitions—Special Approval | 741 Railroads | 1 petition | 20 hours | 20
—Statements of Interest | Public/Railroads | 4 statements | 8 hours | 32
—Comments on Special Approval Procedure Petition | Public/Railroads | 13 comments | 4 hours | 52
232.103—General Requirements for All Train Brakes | 114,000 cars | 70,000 stickers | 10 minutes | 11,667
—RR Plan identifying locations or circumstances when equipment left on a main track or siding unattended | 741 Railroads | 1 revised plan | 10 hours | 10
—Notification to FRA that railroad has developed plan | 741 Railroads | 1 notification | 30 minutes | 1
—Securement job briefings | 741 Railroads | 23,400,000 briefings | 30 seconds | 195,000
—Inspection of proper securement by qualified employee of unattended equipment that a non-railroad emergency responder has been on, under, or between | 741 Railroads | 12 inspections | 4 hours | 48
232.105—General Requirements for Locomotives | 30,000 Locomotives | 30,000 forms | 5 minutes | 2,500
—Inspection of operative exterior locking mechanism on locomotive left unattended outside of a yard but not on a track directly adjacent to the yard | 30,000 Locomotives | 30,000 inspections/records | 30 seconds | 250
—Broken exterior locking mechanism on locomotive requiring repair | 30,000 Locomotives | 73 repaired mechanisms/records | 60 minutes + 15 seconds | 73
232.107—Air Source Requirements—Plans | 10 New Railroads | 1 plan | 40 hours | 40
—Amendments to Plan | 50 Existing Plans | 10 amendments | 20 hours | 200
—Record Keeping | 50 Existing Plans | 1,150 records | 20 hours | 23,000
232.109—Dynamic Br. Requirements—Rcd | 741 Railroads | 1,656,000 rcd | 4 minutes | 110,400
—Repair of Inoperative Dynamic Brakes | 30,000 Locomotives | 6,358 records | 4 minutes | 424
— Locomotives w/Inoperative Dynamic Br. | 30,000 Locomotives | 6,358 tags | 30 seconds | 53
—Deactivated Dynamic Brakes: Markings | 8,000 locomotives | 10 markings | 5 minutes | 1
—Rule Safe Train Handling Procedures | 5 New Railroads | 5 oper. rules | 4 hours | 20
—Amendments | 741 railroads | 15 amendments | 1 hour | 15
—Over Speed Top Rules—5 MPH Increase | 741 railroads | 5 requests | 20.5 hours | 103
—Locomotive Engineer Certification Programs—Dynamic Brakes Training | 5 new railroads | 5 amendments | 16 hours | 80
232.111—Train Information Handling | 5 New Railroads | 5 procedures | 40 hours | 200
—Amendments | 100 Railroads | 100 am. proc. | 20 hours | 2,000
—Reports to Train Crews | 741 Railroads | 2,112,000 rpts | 10 minutes | 352,000
232.203—Training Requirements: Training Programs—Subsequent Years | 15 Railroads | 5 programs | 100 hours | 500
—Amendments to Written Program | 741 Railroads | 741 programs | 8 hours | 5,928
—Training Records | 741 Railroads | 67,000 records | 8 minutes | 8,933
—Training Notifications | 741 Railroads | 67,000 notices | 3 minutes | 3,350
—Validation/Assessment Plans | 741 Railroads | 1 plan + 741 copies | 40 hrs./1 min | 51
—Amendments to Validation/Assessment Plans | 741 Railroads | 50 revised plans | 20 hours | 1,000
232.205—Class I Brake Test—Initial Terminal Insp | 741 Railroads | 1,646,000 notices | 45 seconds | 20,575
232.207—Class I A Brake Tests: 1000 Mile Insp,—Designation of locations where performed:—Subsequent Years | 741 Railroads | 1 des. list | 1 hour | 1
—Notification to FRA headquarters and pertinent region within 24 hours that designation list has changed due to emergency situation | 741 Railroads | 250 notices | 10 minutes | 42
232.209—Class II Brake Tests—Communication of results of roll-by inspections to train operator | 741 Railroads | 159,740 comments | 3 seconds | 133
232.213—Extended Haul Trains—Designations of such trains in writing to FRA | 83,000 Long Distance Train Movements | 250 letters of designation | 15 minutes | 63
232.303—General Requirements—Repair Track Brake Test: Tagging cars needing to be moved for such tests | 1,600,000 Freight Cars | 5,600 tags | 5 minutes | 467
—Stenciling/marking of location of last repair track brake test/single car test required by section 232.305 | 1,600,000 Freight Cars | 240,000 marks/stencillings | 5 minutes | 20,000
232.305—Single Car Tests/Records | 1,600,000 Freight Cars | 240,000 tests/records | 60 minutes | 240,000
232.307—Request to Modify Single Car Air Brake Test Procedures | AAR | 1 request + 3 copies | 20 hours + 5 minutes | 20
—Statement Affirming That Request Copies Have been Served on Designated Employee Representatives | AAR | 1 statement + 4 copies | 30 minutes + 5 minutes | 1
—Comment on Modification Request | RR Industry/Public/ Interested Parties | 2 comments | 8 hours | 16
232.309—Equipment and devices performing single car air brake tests: Testing and Calibrations | 640 Shops | 5,000 tests | 30 minutes | 2,500
232.403—Design Standards For One-way EOT Devices—Request to FRA for unique code for each rear unit | 245 Railroads | 12 requests | 5 minutes | 1
232.407—Operations Requiring 2-Way EOTs: Communications between helper locomotive engineer with engineer on the head end of the train | 245 Railroads | 50,000 radio chats | 30 seconds | 417
232.409—Inspection and Testing of 2-Way EOTs: Notice to engineer of successful test | 245 Railroads | 447,500 notices | 30 seconds | 3,729
—Testing telemetry equipment for accuracy: Date and location of last test or calibration affixed to outside of both front & rear unit | 245 Railroads | 1,350 markings | 60 seconds | 23
232.503—Process to Introduce New Brake System Technology—Request to FRA for special approval | 741Railroads | 1 request/letter | 60 minutes | 1
—Pre-Revenue Service Demonstration of New Brake Technology: Request to FRA for approval prior to using in revenue service | 741 Railroads | 1 request | 3 hours | 3
232.505—Pre-Revenue Service Acceptance Testing Plan: Maintenance Procedure—Subsequent Years | 741 Railroads | 1 procedure | 160 hours | 160
—Amendments | 741 Railroads | 1 amendment | 40 hours | 40
—Design Descriptions—Petitions | 741 Railroads | 1 petition | 67 hours | 67
—Results Pre-Revenue Service Acceptance Testing | 741 Railroads | 1 report | 13 hours | 13
—Description of Brake Systems Technologies Previously Used in Revenue Service | 741 Railroads | 1 description | 40 hours | 40
232.603—ECP Requirements: Brakes—Modification of Standards: AAR or Industry Representative request to FRA | 4 Railroads/AAR | 1 request + 2 copies | 8 hours + 5 minutes | 8
—RR Statement Affirming Copy of Modification Request to Employee Reps | 4 Railroads | 4 statements+ 24 copies | 60 minutes + 5 minutes | 6
—Comments on Modification Request | Public/Interested Parties | 4 comments | 2 hours | 8
232.607—ECP Trains Class I Brake Test & Inspection/: Notification to locomotive engineer it was successfully performed | 4 Railroads | 750 tests + 750 notices | 90 minutes + 45 seconds | 1,134
—Cars Added en Route—Tests/Notifications | 4 Railroads | 50 tests + 50 notices | 60 minutes + 45 seconds | 51
—Non-ECP Cars Added—Inspections and Tagging of Defective Equipment | 2000 Cars | 25 insp. + 50 tags | 5 minutes + 2.5 minutes | 4
232.609—Handling of Defective Equipment w/ECP Brake Systems—Tagging | 25 Cars | 25 tags | 2.5 minutes | 1
—Train in ECP Mode w/Less Than 85% of Cars w/Operative Brakes—Insp. + Tagging | 20 Cars | 10 insp. + 20 tags | 5 minutes + 2.5 minutes | 2
—Freight Cars w/ECP Systems Found with Defective Non-Safety Appliance—Tagging | 25 Cars | 25 tags | 2.5 minutes | 1
—Conventional Train Operating with ECP Stand Alone Brake Systems—Tagging | 25 Cars | 50 tags | 2.5 minutes | 2
—Procedures for Handling ECP Brake System Repairs | 1 Railroad | 1 procedure | 24 hours | 24
—Submission to FRA of ECP Brake System Repair Locations—Lists | 1 Railroad | 1 list | 8 hours | 8
—Notice to FRA of Change in List | 1 Railroad | 1 notification | 60 minutes | 1
232.611—Periodic Maintenance: Inspection & Repair of ECP Cars Before Release from Repair Shop or Track | 500 Freight Cars | 300 inspections and records | 10 minutes | 50
—Petitions for Special Approval of Pre-Revenue Service Acceptance Testing Plan | AAR | 1 petition + 2 copies | 24 hours+ 5 minutes | 24
—Single Car Brake Test on ECP Retrofitted Cars | 2,500 Freight Cars | 50 tests/records | 45 minutes | 38
—Modification of Single Car Test Standard | AAR | 1 procedure | 40 hours | 40

Total Estimated Annual Responses: 30,519,495.

Total Estimated Annual Burden: 1,045,550 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Juan D. Reyes III,
Chief Counsel.

[FR Doc. 2018-16403 Filed 7-31-18; 8:45 am]

BILLING CODE 4910-06-P